SURFACE TRANSPORTATION BOARD

[Docket No. FD 36824]

North Florida Industrial Railroad, LLC—Lease and Operation Exemption—Rail Line in Columbia County, Fla.

North Florida Industrial Railroad, LLC (NFIR), a noncarrier, has filed a verified notice of exemption under 49 CFR 1150.31 to lease and operate approximately 4,891 feet of track in the vicinity of Lake City in Columbia County, Fla. (the Line), connecting the North Florida Mega Industrial Park (Park) with a rail line operated by Florida Gulf & Atlantic Railroad, LLC (FG&A).¹ According to the verified notice, there are no designated mileposts on the Line, although it will connect with FG&A's line at milepost 688.²

¹ The verified notice states that NFIR and FG&A are commonly controlled.

² Although the verified notice states that the connection will be located at milepost “888,” the maps attached to the notice show the milepost as being 688. (Notice, Ex. 1.)

This transaction is related to a concurrently filed petition for exemption in Docket No. FD 36823, Macquarie Infrastructure Partners V GP, LLC—Continuance in Control—North Florida Industrial Railroad, in which Macquarie Infrastructure Partners, for the benefit of the Macquarie Infrastructure Partners V fund vehicle; MIP V Rail, LLC; Pinsly Holdco, LLC; and Pinsly Railroad Company, LLC, seeks Board approval to continue in control of NFIR upon NFIR's becoming a Class III rail carrier.

According to the verified notice, the Line is owned by Columbia County, Fla., a noncarrier, and is currently inactive. The verified notice further states that Columbia County is in the process of developing the Park, and that lease and operation of the Line will enable tenants to receive inbound and originate outbound freight shipments via NFIR, which will interchange with FG&A. Pursuant to the proposed transaction, NFIR will maintain and operate the Line, provide switching and related rail services to the Park tenants, and effect the interchange and delivery of inbound and origination and interchange of outbound line-haul rail shipments.

NFIR certifies that its projected annual revenues will not exceed $5 million and will not result in the creation of a Class I or Class II rail carrier. NFIR also certifies that the proposed transaction does not involve any provision or agreement that would limit future interchange with a third-party connecting carrier.

NFIR states that it intends to consummate the proposed transaction as soon as practicable after the effective dates of this exemption and the continuance in control exemption that is the subject of the related petition for exemption in Docket No. FD 36823. The effective date of this lease and operation exemption will be held in abeyance pending review of the petition for exemption.

If the verified notice contains false or misleading information, the exemption is void ab initio. Petitions to revoke the exemption under 49 U.S.C. 10502(d) may be filed at any time. The filing of a petition to revoke will not automatically stay the effectiveness of the exemption. If the petition for exemption in Docket No. FD 36823 is granted, a deadline for filing petitions to stay this lease and operation exemption will be established in a decision that also establishes an effective date for this exemption.

All pleadings, referring to Docket No. FD 36824, must be filed with the Surface Transportation Board either via e-filing on the Board's website or in writing addressed to 395 E Street SW, Washington, DC 20423-0001. In addition, a copy of each pleading must be served on NFIR's representative, Terence M. Hynes, Sidley Austin LLP, 1501 K Street NW, Washington, DC 20005.

According to NFIR, this action is categorically excluded from environmental review under 49 CFR 1105.6(c) and from historic preservation reporting requirements under 49 CFR 1105.8(b).

Board decisions and notices are available at www.stb.gov.

Decided: January 17, 2024.
By the Board, Scott M. Zimmerman, Acting Director, Office of Proceedings.
Zantori Dickerson,
Clearance Clerk.

[FR Doc. 2025-01590 Filed 1-22-25; 8:45 am]

BILLING CODE 4915-01-P